SMALL BUSINESS ADMINISTRATION

[Disaster Declaration # 17420; ALASKA Disaster Number AK-00051 Declaration of Economic Injury]

Administrative Declaration of an Economic Injury Disaster for the State of Alaska

AGENCY: Small Business Administration.

ACTION: Notice.

SUMMARY: This is a notice of an Economic Injury Disaster Loan (EIDL) declaration for the State of ALASKA dated 04/22/2022.

Incident: Severe Winter Storms.

Incident Period: 01/01/2022 through 01/04/2022.

DATES: Issued on 04/22/2022.

Economic Injury (EIDL) Loan Application Deadline Date: 01/23/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Areas:Delta/Greely REAA, Matanuska-Susitna Borough.

Contiguous Areas:

Alaska: Alaska Gateway REAA, Chugach REAA, Copper River REAA, Denali Borough, Fairbanks North Star Borough, Iditarod Area REAA, Kenai Peninsula Borough, Municipality of Anchorage.

The Interest Rates are:

Businesses and Small Agricultural Cooperatives without Credit Available Elsewhere | 2.830
Non-Profit Organizations without Credit Available Elsewhere | 1.875

The number assigned to this disaster for economic injury is 174200.

The State which received an EIDL Declaration #17420 is Alaska.

(Catalog of Federal Domestic Assistance Number 59008)

Isabella Guzman,
Administrator.

[FR Doc. 2022-09083 Filed 4-27-22; 8:45 am]

BILLING CODE 8026-03-P